DEPARTMENT OF EDUCATION

Office of Special Education and Rehabilitative Services; Notice Inviting Applications for New Awards for Fiscal Year (FY) 2001

AGENCY: Department of Education.

ACTION: Correction.

SUMMARY: On May 18, 2001, a notice inviting applications for new awards under the Office of Special Education and Rehabilitative Services; Grant Applications under the Special Education—Training and Information for Parents of Children With Disabilities Program was published in the Federal Register (66 FR 27814). Under the Parent Training and Information Centers (84.328M) priority on page 27816, in column 1, “Project Period” section, and the table also included on page 27816, we inadvertently omitted the project period for the Native American Families and the Military Families awards and the interim projects. The second sentence in the “Project Period” section is corrected to read “Interim projects will be funded for a period up to 12 months and the Native American Families and Military Families projects will be funded for a period up to 36 months”. In the table, the “Project period” column is corrected to indicate a project period of up to 36 months for the Native American Families and Military Families projects and 12 months for interim projects.

FOR FURTHER INFORMATION CONTACT: For further information on this notice contact Debra Sturdivant, U.S. Department of Education, 400 Maryland Avenue, SW, room 3317, Switzer Building, Washington, DC 20202-2641. FAX: (202) 205-8717 (FAX is the preferred method for requesting information). Telephone: (202) 205-8038. Internet: Debra_Sturdivant@ed.gov.

If you use a TDD you may call the Federal Information Relay Service (FIRS) at 1-800-877-8339.

Individuals with disabilities may obtain this document in an alternative format (e.g., Braille, large print, audiotape, or computer diskette) on request to the contact persons listed in the preceding paragraph.

Electronic Access to This Document

You may view this document, as well as all other Department of Education documents published in the Federal Register, in text or Adobe Portable Document Format (PDF) on the Internet at the following site: www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1482.

Dated: July 2, 2001.
Francis V. Corrigan,
Deputy Director, National Institute on Disability and Rehabilitative Research.

[FR Doc. 01-16981 Filed 7-5-01; 8:45 am]

BILLING CODE 4000-01-P